DEPARTMENT OF HOMELAND SECURITY

Federal Emergency Management Agency

[Docket ID FEMA-2013-0002; Internal Agency Docket No. FEMA-B-1358]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arkansas:
Garland | Unincorporated areas of Garland County (13-06-1581P) | The Honorable Rick M. Davis, Garland County Judge, P.O. Box 368, Pearcy, AR 71964 | Garland County Courthouse, 501 Quachita Avenue, Hot Springs, AR 71901 | http://www.msc.fema.gov/lomc | March 17, 2014 | 050433
Saline | Unincorporated areas of Saline County, (13-06-1581P) | The Honorable Lanny Fite, Saline County Judge, 200 North Main Street, Room 117, Benton, AR 72015 | Saline County Courthouse, 200 North Main Street, Room 117, Benton, AR 72015 | http://www.msc.fema.gov/lomc | March 17, 2014 | 050191
New Mexico: Lea | Unincorporated areas of Lea County, (13-06-1634P) | Mr. Michael Gallagher, Manager, Lea County, 100 North Main Street, Suite 4, Lovington, NM 88260 | Lea County, 100 North Main Street, Lovington, NM 88260 | http://www.msc.fema.gov/lomc | March 6, 2014 | 350130
Pennsylvania: Bucks | Borough of New Hope, (13-03-1604P) | Mr. John Burke, Manager, Borough of New Hope, 123 New Street, New Hope, PA 18938 | Borough Hall, 123 New Street, New Hope, PA 18938 | http://www.msc.fema.gov/lomc | March 13, 2014 | 420195
Oklahoma:
Oklahoma | City of Oklahoma City, (13-06-3021P) | The Honorable Mick Cornett, Mayor, City of Oklahoma City, 200 North Walker Avenue, 3rd Floor, Oklahoma City, OK 73102 | 420 West Main Street, Suite 700, Oklahoma City, OK 73102 | http://www.msc.fema.gov/lomc | March 6, 2014 | 405378
Tulsa | City of Tulsa, (13-06-1997P) | The Honorable Dewey F. Bartlett, Jr., Mayor, City of Tulsa, 175 East 2nd Street, Suite 690, Tulsa, OK 74103 | Engineering Services, 2317 South Jackson Avenue, Room S-312, Tulsa, OK 74107 | http://www.msc.fema.gov/lomc | March 17, 2014 | 405381
Tulsa | City of Tulsa, (13-06-2412P) | The Honorable Dewey F. Bartlett, Jr., Mayor, City of Tulsa, 175 East 2nd Street, Suite 690, Tulsa, OK 74103 | Engineering Services, 2317 South Jackson Avenue, Room S-312, Tulsa, OK 74107 | http://www.msc.fema.gov/lomc | March 31, 2014 | 405381
Texas:
Dallas | City of Dallas, (13-06-2373P) | The Honorable Mike Rawlings, Mayor, City of Dallas, 1500 Marilla Street, Room 5EN, Dallas, TX 75201 | Department of Public Works, 320 East Jefferson Boulevard, Room 307, Dallas, TX 75203 | http://www.msc.fema.gov/lomc | March 17, 2014 | 480171
Fort Bend | City of Sugar Land, (13-06-4003P) | The Honorable James Thompson, Mayor, City of Sugar Land, P.O. Box 110, Sugar Land, TX 77487 | City Hall, 2700 Town Center Boulevard North, Sugar Land, TX 77479 | http://www.msc.fema.gov/lomc | February 14, 2014 | 480234
Gray | City of Pampa, (13-06-2524P) | The Honorable Brad Pingel, Mayor, City of Pampa, P.O. Box 2499, Pampa, TX 79066 | 200 West Foster Avenue, Pampa, TX 79066 | http://www.msc.fema.gov/lomc | March 31, 2014 | 480258
Harris | Unincorporated areas of Harris County, (13-06-1076P) | The Honorable Ed M. Emmett, Harris County Judge, 1001 Preston Street, Suite 911, Houston, TX 77002 | Harris County, 10555 Northwest Freeway, Houston, TX 77092 | http://www.msc.fema.gov/lomc | March 6, 2014 | 480287
Hidalgo | Unincorporated areas of Hidalgo County, (13-06-3440P) | The Honorable Ramon Garcia, Hidalgo County Judge, 302 West University Drive, Edinburg, TX 78539 | Hidalgo County Drainage District, 902 North Doolittle Road, Edinburg, TX 78542 | http://www.msc.fema.gov/lomc | March 13, 2014 | 480334
Midland | City of Midland, (12-06-4034P) | The Honorable W. Wesley Perry, Mayor, City of Midland, 300 North Loraine Street, Midland, TX 79701 | City Hall, 300 North Loraine Street, Midland, TX 79701 | http://www.msc.fema.gov/lomc | March 10, 2014 | 480477
Midland | Unincorporated areas of Midland County, (12-06-4034P) | The Honorable Michael R. Bradford, Midland County Judge, 500 North Loraine Street, 11th Floor, Midland, TX 79701 | Midland County Courthouse, 500 North Loraine Street, Midland, TX 79701 | http://www.msc.fema.gov/lomc | March 10, 2014 | 481239
Montgomery | Unincorporated areas of Montgomery County, (13-06-2600P) | The Honorable Alan B. Sadler, Montgomery County Judge, 501 North Thompson Street, Suite 401, Conroe, TX 77301 | Montgomery County Permitting Department, 501 North Thompson Street, Suite 100, Conroe, TX 77301 | http://www.msc.fema.gov/lomc | March 24, 2014 | 480483
Rockwall | City of Rockwall, (13-06-2095P) | The Honorable David Sweet, Mayor, City of Rockwall, 385 South Goliad Street, Rockwall, TX 75087 | City Hall, 385 South Goliad Street, Rockwall, TX 75087 | http://www.msc.fema.gov/lomc | February 28, 2014 | 480547
Travis | Unincorporated areas of Travis County, (13-06-1967P) | The Honorable Samuel T. Biscoe, Travis County Judge, P.O. Box 1748, Austin, TX 78767 | Travis County Administration Building, Transportation and Natural Resources Department, 700 Lavaca Street, 5th Floor, Austin, TX 78701 | http://www.msc.fema.gov/lomc | March 13, 2014 | 481026
Virginia: Roanoke | Unincorporated areas of Roanoke County, (12-03-0347P) | Mr. B. Clayton Goodman, III, Roanoke County Administrator, 5204 Bernard Drive, Roanoke, VA 24018 | Roanoke County Community Development Department, 5204 Bernard Drive, Roanoke, VA 24018 | http://www.msc.fema.gov/lomc | March 13, 2014 | 510190

(Catalog of Federal Domestic Assistance No. 97.022, “Flood Insurance.”)

Dated: December 18, 2013.
Roy E. Wright,
Deputy Associate Administrator for Mitigation, Department of Homeland Security, Federal Emergency Management Agency.

[FR Doc. 2014-01146 Filed 1-21-14; 8:45 am]

BILLING CODE 9110-12-P